DEPARTMENT OF ENERGY

Federal Energy Regulatory Commission

[Project No. 1962-000]

Pacific Gas and Electric Company; Notice Establishing a Deadline for Submission of Comments on Settlement Agreement

December 7, 2000.

Take notice that on December 4, 2000, Pacific gas and Electric Company, licensee for the Rock Creek-Cresta Project No. 1962, located on the North Fork Feather River in Butte and Plumas counties, California, filed supporting documentation for the Settlement Agreement filed in the proceeding on September 29, 2000. This supporting documentation is available for public inspection.

Our October 10, 2000, notice soliciting comments on the Settlement Agreement, 65 FR 61160 (2000), stated that comments on the settlement were to be due November 30, 2000, or 30 days after the filing of the supporting documentation, whichever comes later. Reply comments were to be due December 13, 2000, or 45 days after the filing of supporting documentation. Accordingly, comments on the Settlement Agreement are due on January 3, 2001, and reply comments are due on January 18, 2001.

Linwood A. Watson, Jr.,
Acting Secretary.

[FR Doc. 00-31859 Filed 12-13-00; 8:45 am]

BILLING CODE 6717-01-M